FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 6, 2020.

A. Federal Reserve Bank of Kansas City (Dennis Denney, Assistant Vice President) 1 Memorial Drive, Kansas City, Missouri 64198-0001:

1. Randall J. Blue, Sedalia, Colorado, as trustee of the Randall J. Blue Revocable Trust, the Taylor Blue Republic Trust, the Justin Blue GST Trust, the Zachary Blue GST Trust, and the Taylor Blue GST Trust, all of Wichita, Kansas;

Kipton R. Blue, Leawood, Kansas, as trustee of the Kipton R. Blue Revocable Trust UTA, the Adam Blue Republic Trust, the Benjamin Blue Republic Trust, the Amanda Blue Republic Trust, the Adam Blue GST Trust, the Benjamin Blue GST Trust, and the Amanda Blue GST Trust, all of Wichita Kansas;

Nancy S. Blue, Sedalia, Colorado, as trustee of the Nancy S. Blue Revocable Trust, Wichita, Kansas; Shari J. Blue, Leawood, Kansas, as trustee of the Shari J. Blue Revocable Trust UTA, Wichita, Kansas; and Zachary W. Blue, Wichita, Kansas;

Justin R. Blue, Louisburg, Kansas; Taylor Blue, Evergreen, Colorado; Benjamin Blue, Olathe, Kansas; Adam Blue, Leawood, Kansas; and Amanda Blue, Overland Park, Kansas;

To become members of the Blue Family Group, a group acting in concert, to retain voting shares of Republic Financial Corporation, and thereby indirectly retain voting shares of Southwest National Bank, both of Wichita, Kansas.

Board of Governors of the Federal Reserve System, October 19, 2020.
Yao-Chin Chao,
Assistant Secretary of the Board.

[FR Doc. 2020-23408 Filed 10-21-20; 8:45 am]

BILLING CODE P